DEPARTMENT OF THE INTERIOR

National Park Service

[NPS-SER-EVER-16068; PXPD078991D001]

Everglades General Management Plan/East Everglades Wilderness Study, Final Environmental Impact Statement, Everglades National Park, Florida

AGENCY: National Park Service, Department of the Interior.

ACTION: Notice of Availability.

SUMMARY: The National Park Service (NPS) announces the availability of a Final Environmental Impact Statement for the General Management Plan/East Everglades Wilderness Study (EIS/GMP/EEWS) for Everglades National Park, Florida. The last comprehensive planning effort for Everglades National Park was completed in 1979. Much has changed since then—patterns and types of visitor use have changed, the Comprehensive Everglades Restoration Plan was approved, and in 1989 the East Everglades Addition (109,506 acres) was added to restore Northeast Shark River Slough. Recent studies have enhanced the NPS's understanding of resources, resource threats, and visitor use in the national park. This GMP will provide updated management direction for the entire park, including the East Everglades Addition. The EEWS provides a forum for evaluating lands within the East Everglades Addition for possible recommendation to Congress for inclusion in the national wilderness preservation system.

DATES: The NPS will execute a Record of Decision (ROD) no sooner than 30 days following publication by the Environmental Protection Agency`s Notice of Availability of the Final EIS in the Federal Register.

ADDRESSES: The document will be available for public review online at www.parkplanning.nps.gov/ever. A limited number of CDs and hard copies will be made available at Everglades National Park headquarters. You may request a copy by contacting Supervisory Park Planner, Fred Herling, at Everglades National Park, 40001 State Road 93363, Homestead, FL 33034; telephone 305-242-7704.

FOR FURTHER INFORMATION CONTACT: Everglades National Park Supervisory Park Planner, Fred Herling, at the address and telephone number shown above, or via email at Fred_Herling@nps.gov.

SUPPLEMENTARY INFORMATION: Public scoping for the GMP was initiated in 2003. The EEWS was added to the scope of the project in 2006. Public meetings, five newsletters, and internet updates kept the public informed and involved throughout the planning process. The Draft GMP/EEWS/EIS was distributed to other agencies, interested organizations, and individuals for their review and comment in February of 2013. Nine public meetings and many additional stakeholder meetings were held on the draft plan in southern Florida. A wilderness hearing was held as part of each of the public meetings.

The draft document was revised as a result of public and agency feedback received during the public comment period. The Final GMP/EEWS/EIS provides a framework for management, use, and development options of the national park for the next 20 or more years. The EIS presents and analyzes the environmental impacts of four alternatives: alternative 1 (no action), alternative 2, the NPS preferred alternative and alternative 4. (Alternative 3 was dismissed from detailed analysis.) The alternatives present a range of resource protection directions, visitor opportunities, visitor facilities, and proposed wilderness.

• Alternative 1 (no action) provides a baseline for evaluating changes and impacts of the three action alternatives. Under this alternative the current management framework would continue and no wilderness would be proposed for the East Everglades Addition.

• Alternative 2 would strive to maintain and enhance visitor opportunities and protect natural systems while preserving many traditional routes and ways of visitor access. It proposes 39,500 acres for designation as wilderness within the East Everglades Addition.

• The NPS preferred alternative, would support restoration of natural systems while providing improved opportunities for quality visitor experiences. It proposes about 42,200 acres for designation as wilderness and about 43,100 acres for designation as potential wilderness within the East Everglades Addition. Elements of this alternative would support the resilience of the Everglades National Park to climate change concerns, such as sea level rise, coastal erosion, and higher storm surges, all of which may affect cultural and natural resources as well as visitor experience at the park.

• Alternative 4 would provide a high level of support for protecting natural systems while improving opportunities for certain types of visitor activities. Alternative 4 would eliminate commercial airboat tours within the park. It proposes 42,700 acres for designation as wilderness and 59,400 acres for designation as potential wilderness within the East Everglades Addition.

The responsible official for this Final EIS is the Regional Director, Southeast Region, NPS 100 Alabama Street SW., 1924 Building, Atlanta, Georgia 30303.

Dated: August 6, 2015.
Barclay C. Trimble,
Acting, Regional Director, Southeast Region.

[FR Doc. 2015-21358 Filed 8-27-15; 8:45 am]

BILLING CODE 4310-JD-P